DEPARTMENT OF TRANSPORTATION

Federal Aviation Administration

RTCA Special Committee 202: Portable Electronic Devices

AGENCY: Federal Aviation Administration (FAA), DOT.

ACTION: Ntoice of RTCA Special Committee 2002 meeting.

SUMMARY: The FAA is issuing this notice to advise the public of a meeting of RTCA Special Committee 202: Portable Electronic Devices.

DATES: The meeting will be held on April 12-14, 2005 from 9 a.m. to 4:30 p.m.

ADDRESSES: The meeting will be held at RTCA, Inc., 1828 L Street, NW., Suite 805, Washington, DC, 20036-5133.

FOR FURTHER INFORMATION CONTACT: RTCA Secretariat, 1828 L Street, NW., Suite 805, Washington, DC, 20036-5133; telephone (202) 833-9339; fax (202) 833-9434; Web site http://www.rtca.orig.

SUPPLEMENTARY INFORMATION: Pursuant to section 10(a)(2) of the Federal Advisory Committee Act (Pub. L. 92-463, 5 U.S.C., Appendix 2), notice is hereby given for a Special Committee 202 meeting. The agenda will include:

• April 12:

• Working Groups 1 through 4 meet all day.

• April 13-14:

• Opening Plenary Session (Welcome and Introductory Remarks, Review Agency, Review/Approve previous Common Plenary Summary, Review Open Action Items).

• Update from CEA PEDs Working Group.

• Update from Regulatory Agencies (FAA, UK-CAA, Canadian TSB or other members present).

• Update from EUROCAE Working Group 58.

• Recommendations on common document with EUROCAE Working Group WG-58.

• Phase 2 work statement, committee structure, work plan, and schedule—Do we neet to set up focus groups on certification of aircraft recommendations, FCC cellphone prohibition assessment, and/or on FCC emissions mask recommendations.

• FCC Overview of processes and regulations.

• Overview of process and schedule milestones for FCC regulations revisions including update/status of FCC NPRM Docket O. WT 04-435 “Cellular Telephones on Airborne Aircraft”.

• Overview of CFR 47 15.521 “Technical Requirements applicable to all UWB devices”.

• UWB Technology overview.

• Regulatory aspects pertaining to UWB devices.

• Technical characterization of UWB devices.

• GSM mobile phone technology demonstration and tutorial.

• Phase 2 work—Break-out sessions for working groups.

• Working Groups report out/each working group will cover the following topics:

• Changes in WG Leadership.

• Significant issues with or changes to Phase 2 work plan.

• Revisions or clarifications to the SC-202 Terms of Reference (TOR).

• Future meetings and teleconference plans.

• Issues requiring plenary decisions.

• Working Group 1 (PEDs characterization, test, and evaluation).

• Working Group 2 (Aircraft test and analysis).

• Working Group 3 (Aircraft systems susceptibility).

• Working Group 4 (Risk assessment, practical application, and final documentation).

• Human Factors sub-group.

• RF-ID Tags for Phase 2 work by John Dimtroff FAA Seattle ACO.

• Closing Session (Other Business, Date and Place of Next Meeting, Closing Remarks, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 28, 2005.
Natalie Ogletree,
FAA General Engineer, RTCA Advisory Committee.

[FR Doc. 05-6070 Filed 3-28-05; 8:45 am]

BILLING CODE 4910-13-M